DEPARTMENT OF THE TREASURY

Submission for OMB Review; Comment Request

April 12, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 22, 2006 to be assured of consideration.

Internal Revenue Service (IRS)

OMB Number: 1545-1225.

Type of Review: Extension.

Title: Notice of Plan Merger or Consolidation, Spin-off, or Transfer of Plan Assets or Liabilities; Notice of Qualified Separate Lines of Business.

Form: IRS Form 5310-A.

Description: Plan administrators are required to notify IRS of any plan mergers, consolidations, spin-offs, or transfers of plan assets or liabilities to another plan. Employers are required to notify IRS of separate lines of business for their deferred compensation plans. Form 5310-A is used to make these notifications.

Respondents: Business or other for-profit.

Estimated Total Burden Hours: 158,800 hours.

OMB Number: 1545-1434.

Type of Review: Extension.

Title: CO-26-96 (Final) Regulations Under Section 382 of the Internal Revenue Code of 1986; Application of Section 382 in Short Taxable Years and With Respect to Controlled Groups.

Description: Section 382 limits the amount of income that can be offset by loss carryovers after an ownership change. These regulations provide rules for applying section 382 in the case of short taxable years and with respect to controlled groups.

Respondents: Business or other for-profit.

Estimated Total Burden Hours: 875 hours.

OMB Number: 1545-1503.

Type of Review: Extension.

Title: Revenue Procedure 96-53, Section 482—Allocations Between Related Parties.

Description: The information requested in sections 4.02, 5, 8.02, 9, 11.01, 11.02(1), 11.04, 11.07 and 11.08 is required to enable the Internal Revenue Service to give advice on filing Advance Pricing Agreement applications, to process such applications and negotiate agreements, and to verify compliance with agreements and whether agreements require modification.

Respondents: Business or other for-profit.

Estimated Total Burden Hours: 8,200 hours.

OMB Number: 1545-1540.

Type of Review: Extension.

Title: REG-106871-00 (Final) Reporting Requirements for Widely Held Fixed Investment Trusts (TD 9241).

Description: The regulations clarify the reporting requirements of trustees and middlemen involved with widely held fixed investment trusts.

Respondents: Business or other for-profit.

Estimated Total Burden Hours: 2,400 hours.

OMB Number: 1545-1673.

Type of Review: Revision.

Title: Revenue Procedure 2003-44—Employee Plans Compliance Resolution System (RP 2002-47—revised).

Description: The information requested in this revenue procedure is required to enable the Commissioner, Tax Exempt and Government Entities Division of the Internal Revenue Service to make determinations on the issuance of various types of closing agreements and compliance statements. The issuance of these agreements and statements allows individual plans to maintain their tax-qualified status. As a result, the favorable tax treatment of the benefits of the eligible employees is retained.

Respondents: Individuals or households; Business or other for-profit; Not-for-profit institutions; State, local or tribal government.

Estimated Total Burden Hours: 56,272 hours.

OMB Number: 1545-1971.

Type of Review: Extension.

Title: Household Employment Taxes.

Form: IRS Schedule H (Form 1040).

Description: Schedule H (Form 1040) is used by individuals to report their employment taxes. The data is used to verify that the items reported on the form is correct and also for general statistical use.

Respondents: Individuals or households and Business or other for-profit.

Estimated Total Burden Hours: 71,925 hours.

OMB Number: 1545-1972.

Type of Review: Extension.

Title: Supplemental Income and Loss.

Form: IRS Schedule E (Form 1040).

Description: Schedule E (Form 1040) is used by individuals to report their supplemental income. The data is used to verify that the items reported on the form is correct and also for general statistical use.

Respondents: Individuals or households and Business or other for-profit.

Estimated Total Burden Hours: 284,599 hours.

OMB Number: 1545-1973.

Type of Review: Extension.

Title: Net Profit From Business.

Form: IRS Schedule C-EZ (Form 1040).

Description: Schedule C-EZ (Form 1040) is used by individuals to report their employment taxes. The data is used to verify that the items reported on the form is correct and also for general statistical use.

Respondents: Individuals or households and Business or other for-profit.

Estimated Total Burden Hours: 1,027,515 hours.

OMB Number: 1545-1975.

Type of Review: Extension.

Title: Profit or Loss from Farming.

Form: IRS Schedule F, Parts 1 & 2 (Form 1040).

Description: Schedule F (Form 1040) is used by individuals to report their employment taxes. The data is used to verify that the items reported on the form is correct and also for general statistical use.

Respondents: Individuals or households and Business or other for-profit.

Estimated Total Burden Hours: 7,796,240 hours.

OMB Number: 1545-1976.

Type of Review: Extension.

Title: Profit or Loss from Farming.

Form: IRS Schedule F, Parts 2 & 3 (Form 1040).

Description: Schedule F (Form 1040) is used by individuals to report their employment taxes. The data is used to verify that the items reported on the form is correct and also for general statistical use.

Respondents: Individuals or households and Business or other for-profit.

Estimated Total Burden Hours: 49,356 hours.

OMB Number: 1545-1987.

Type of Review: Extension.

Title: Notice 138529-05 Section 1503(d) Failure to File Relief.

Description: Treasury regulation section 1.1503-2(b) provides that a dual consolidated loss of a dual resident corporation cannot offset the taxable income of any domestic affiliate in the taxable year in which the loss is recognized or in any other taxable year. To implement this general rule and its exceptions, Treas. Reg section 1.1503-2, 1.1503-2A, and 1.1503-2T require various filings to be included in a timely filed tax return. Taxpayers that fail to include section 1503(d) filings on a timely basis are currently required to request an extension of time to file under the provisions of section 301.9100-1 through 301.9100-3. This Notice announces that taxpayers will not be required to request extensions for most section 1503(d) filings if they can demonstrate that the failure to timely file was due to reasonable cause and not willful neglect.

Respondents: Business or other for-profit.

Estimated Total Burden Hours: 1,238 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-5912 Filed 4-19-06; 8:45 am]

BILLING CODE 4830-01-P